DEPARTMENT OF THE INTERIOR

National Park Service

National Register of Historic Places; Notification of Pending Nominations

Nominations for the following properties being considered for listing in the National Register were received by the National Park Service before November 3, 2001. Pursuant to section 60.13 of 36 CFR part 60 written comments concerning the significance of these properties under the National Register criteria for evaluation may be forwarded to the National Register, National Park Service, 1849 C St. NW., NC400, Washington, DC 20240. Written comments should be submitted by December 6, 2001.

Carol D. Shull,
Keeper of the National Register of Historic Places.

FLORIDA

Polk County

Pope Avenue Historic District, (Winter Haven, Florida MPS), Roughly Avenue A NW., Pope Avenue NW., 6th and 7th Sts NW., Winter Haven, 01001337.

St. Lucie County, Fort Pierce City Hall, Old, 315 Avenue A, Fort Pierce, 01001338.

Sunrise Theatre, 117 S. 2nd St., Ft. Pierce, 01001339.

INDIANA

Allen County

McColloch—Weatherhogg Double House, 334-336 E. Berry St., Fort Wayne, 01001350.

De Kalb County

Downtown Butler Historic District, Roughly 100 & 200 Blks of South Broadway, Butler, 01001347.

Hamilton County

Noblesville Milling Company Mill, South 8th St., Noblesville, 01001346.

Jasper County

Fountain Park Chautauqua, 6244 W. Cty Rd. 1600S, Remington, 01001351.

La Porte County

Barker House, 444 Barker St., Michigan City, 01001349.

First Congregational Church of Michigan City, 531 Washington St., Michigan City, 01001343.

Garrettson—Baine—Bartholomew House, 2921 Franklin St., Michigan City, 01001340.

Marion County

Cumberland Historic District, Roughly bounded by Munsie, Welland, Heflin, and Warehouse Sts., Cumberland, 01001341.

Spink Arms Hotel, 410 N. Meridian St., Indianapolis, 01001345.

Shelby County

Porter Pool Bathhouse, 501 N. Harrison St., Shelbyville, 01001348.

Steuben County

Pleasant Lake Depot, 1469 W. Main St., Pleasant Lake, 01001344.

Tippecanoe County

Varsity, The, 101 Andrew Place, West Lafayette, 01001342.

NEW HAMPSHIRE,

Coos County

Wallace Farm, 27 Wallace Rd., Columbia, 01001353.

Rockingham County

St. Andrew's By-The-Sea, Church Rd., 0.2 mi. SE of jct. with South Rd. and Rte. 1A, Rye, 01001352.

OKLAHOMA

Cleveland County

Bavinger, Eugene, House, (Bruce Goff Designed Resources in Oklahoma MPS), 730 60th Ave., NE., Norman, 01001354.

Oklahoma County

Pollock, Donald, House, (Bruce Goff Designed Resources in Oklahoma MPS) 2400 NW 59th St., Oklahoma City, 01001356.

Tulsa County

Dawson School, Jct. of East Ute Place and N. Kingston Pl., Tulsa, 01001357.

Jones, Robert Lawton, House, 1916 E. 47th St., Tulsa, 01001355.

WEST VIRGINIA

Hancock County

Baker's Bottom Historic District, WV 2, Newell, 01001358.

An Error in notification has been made. The listing of the following resource is not pending:

NEW JERSEY

Bergen County

Bogert-Wilkens Factory Site and the Sandy Beach Swim Club Facility, Address Restricted, Oakland 01001201.

[FR Doc. 01-29092 Filed 11-20-01; 8:45 am]

BILLING CODE 4310-70-P